DEPARTMENT OF ENERGY

Federal Energy Regulatory Commission

Combined Notice of Filings #1

December 20, 2010.

Take notice that the Commission received the following electric corporate filings:

Docket Numbers: EC11-31-000.

Applicants: Northeast Utilities Service Company, The Connecticut Light and Power Company.

Description: NUSCO's Section 203 Application for Authority to Transfer Jurisdictional Facilities on Behalf of The Connecticut Light and Power Company and the Connecticut Transmission Municipal Electric Energy Cooperative.

Filed Date: 12/17/2010.

Accession Number: 20101217-5176.

Comment Date: 5 p.m. Eastern Time on Friday, January 07, 2011.

Take notice that the Commission received the following exempt wholesale generator filings:

Docket Numbers: EG11-36-000.

Applicants: Alta Wind II Owner Lessor C.

Description: Notice of Self-Certification of Exempt Wholesale Generator Status of Alta Wind II Owner Lessor C.

Filed Date: 12/20/2010.

Accession Number: 20101220-5036.

Comment Date: 5 p.m. Eastern Time on Monday, January 10, 2011.

Docket Numbers: EG11-37-000.

Applicants: Vermont Wind, LLC.

Description: Notice of Self-Certification of EWG Status of Vermont Wind, LLC.

Filed Date: 12/17/2010.

Accession Number: 20101217-5183.

Comment Date: 5 p.m. Eastern Time on Friday, January 07, 2011.

Docket Numbers: EG11-38-000.

Applicants: Alta Wind II Owner Lessor E.

Description: Notice of Self-Certification of Exempt Wholesale Generator Status of Alta Wind II Owner Lessor E.

Filed Date: 12/20/2010.

Accession Number: 20101220-5060.

Comment Date: 5 p.m. Eastern Time on Monday, January 10, 2011.

Docket Numbers: EG11-39-000.

Applicants: Alta Wind II Owner Lessor D.

Description: Notice of Self-Certification of Exempt Wholesale Generator Status of Alta Wind II Owner Lessor D.

Filed Date: 12/20/2010.

Accession Number: 20101220-5061.

Comment Date: 5 p.m. Eastern Time on Monday, January 10, 2011.

Docket Numbers: EG11-40-000.

Applicants: Alta Wind II Owner Lessor B.

Description: Notice of Self-Certification of Exempt Wholesale Generator Status of Alta Wind II Owner Lessor B.

Filed Date: 12/20/2010.

Accession Number: 20101220-5062.

Comment Date: 5 p.m. Eastern Time on Monday, January 10, 2011.

Docket Numbers: EG11-41-000.

Applicants: Alta Wind II Owner Lessor A.

Description: Notice of Self-Certification of Exempt Wholesale Generator Status of Alta Wind II Owner Lessor A.

Filed Date: 12/20/2010.

Accession Number: 20101220-5063.

Comment Date: 5 p.m. Eastern Time on Monday, January 10, 2011.

Take notice that the Commission received the following electric rate filings:

Docket Numbers: ER97-4143-024; ER10-2975-001; ER10-727-002; ER11-46-001; ER98-542-026.

Applicants: American Electric Power Service Corporation; CSW Energy Services, INC; AEP Retail Energy Partners LLC; AEP Energy Partners, INC; Central & South West Services, Inc.

Description: Triennial market analysis update of AEP MBR affiliates filed by American Electric Power Service Corporation. And Submission of omitted Exhibit JPD-1 from December 17, 2010 triennial update of American Electric Power Service Corporation.

Filed Date: 12/17/2010; 12/20/2010.

Accession Number: 20101217-5186; 20101220-5119.

Comment Date: 5 p.m. Eastern Time on Tuesday, February 15, 2011.

Docket Numbers: ER05-721-017.

Applicants: Judith Gap Energy LLC.

Description: Triennial Report of Judith Gap Energy LLC.

Filed Date: 12/20/2010.

Accession Number: 20101220-5124.

Comment Date: 5 p.m. Eastern Time on Friday, February 18, 2011.

Docket Numbers: ER06-230-014.

Applicants: Wolverine Creek Energy LLC.

Description: Triennial Report of Wolverine Creek Energy LLC.

Filed Date: 12/20/2010.

Accession Number: 20101220-5125.

Comment Date: 5 p.m. Eastern Time on Friday, February 18, 2011.

Docket Numbers: ER07-810-012.

Applicants: Grays Harbor Energy LLC.

Description: Triennial Report of Grays Harbor Energy LLC.

Filed Date: 12/20/2010.

Accession Number: 20101220-5123.

Comment Date: 5 p.m. Eastern Time on Friday, February 18, 2011.

Docket Numbers: ER09-430-008.

Applicants: Willow Creek Energy LLC

Description: Triennial Report of Willow Creek Energy LLC.

Filed Date: 12/20/2010.

Accession Number: 20101220-5122.

Comment Date: 5 p.m. Eastern Time on Friday, February 18, 2011.

Docket Numbers: ER09-1214-001; EL09-78-002.

Applicants: Entergy Operating Companies.

Description: Compliance Refund Report of Entergy Services, Inc.

Filed Date: 12/17/2010.

Accession Number: 20101217-5169.

Comment Date: 5 p.m. Eastern Time on Friday, January 07, 2011.

Docket Numbers: ER10-956-003.

Applicants: Vantage Wind Energy LLC.

Description: Triennial Report of Vantage Wind Energy LLC.

Filed Date: 12/20/2010.

Accession Number: 20101220-5121.

Comment Date: 5 p.m. Eastern Time on Friday, February 18, 2011.

Docket Numbers: ER10-1508-001.

Applicants: Tampa Electric Company.

Description: Tampa Electric Company submits tariff filing per 35: Compliance Filing—FERC Order 676-3 Language Implementation to be effective 4/1/2011.

Filed Date: 12/20/2010.

Accession Number: 20101220-5129.

Comment Date: 5 p.m. Eastern Time on Monday, January 10, 2011.

Docket Numbers: ER10-1777-002; ER10-2979-002; ER10-2980-001; ER10-2983-001; ER10-2988-001.

Applicants: California Power Holdings, LLC, Thompson River Power, LLC, Castleton Power, LLC, Sundevil Power Holdings LLC, Castleton Energy Services, LLC.

Description: Motion of California Power Holdings, LLC, et. al. Notice of Non-Material Change in Status.

Filed Date: 12/17/2010.

Accession Number: 20101217-5171.

Comment Date: 5 p.m. Eastern Time on Friday, January 07, 2011.

Docket Numbers: ER10-1692-002.

Applicants: California Independent System Operator Corporation.

Description: California Independent System Operator Corporation submits tariff filing per 35: 2010-12-17 CAISO's Filing to conform tariff records on file to eTariff System to be effective 11/1/2010.

Filed Date: 12/17/2010.

Accession Number: 20101217-5147.

Comment Date: 5 p.m. Eastern Time on Friday, January 07, 2011.

Docket Numbers: ER10-2826-001; ER10-2827-001.

Applicants: Buffalo Ridge I LLC; Buffalo Ridge II LLC.

Description: Buffalo Ridge I LLC submits tariff filing per 35: Compliance Filing to Baseline MBR Tariff to be effective 9/22/2010.

Filed Date: 12/17/2010.

Accession Number: 20101217-5000.

Comment Date: 5 p.m. Eastern Time on Friday, January 07, 2011.

Docket Numbers: ER10-2979-001.

Applicants: California Power Holdings, LLC.

Description: California Power Holdings, LLC submits tariff filing per 35: Compliance Filing—Amendment to MBR Tariff to be effective 2/15/2011.

Filed Date: 12/17/2010.

Accession Number: 20101217-5098.

Comment Date: 5 p.m. Eastern Time on Friday, January 07, 2011.

Docket Numbers: ER10-3006-001.

Applicants: Moraine Wind LLC.

Description: Moraine Wind LLC submits tariff filing per 35: Compliance Filing to Baseline MBR Tariff to be effective 9/27/2010.

Filed Date: 12/20/2010.

Accession Number: 20101220-5130.

Comment Date: 5 p.m. Eastern Time on Monday, January 10, 2011.

Docket Numbers: ER10-3153-002.

Applicants: City of Vernon, California.

Description: City of Vernon, California submits tariff filing per 35: City of Vernon TO Tariff Baseline Compliance Filing to be effective 9/29/2010.

Filed Date: 12/20/2010.

Accession Number: 20101220-5134.

Comment Date: 5 p.m. Eastern Time on Monday, January 10, 2011.

Docket Numbers: ER11-1996-001.

Applicants: Westar Energy, Inc.

Description: Westar Energy, Inc. submits tariff filing per 35.17(b): Amendment City of Eudora, KS Joint Filing to Defer Effective Date to be effective 6/1/2011.

Filed Date: 12/20/2010.

Accession Number: 20101220-5004.

Comment Date: 5 p.m. Eastern Time on Monday, January 10, 2011.

Docket Numbers: ER11-2404-000.

Applicants: The Connecticut Light and Power Company.

Description: The Connecticut Light and Power Company submits tariff filing per 35.13(a)(2)(iii: Operation and Maintenance Agreement between CTMEEC and CL&P to be effective 6/1/2011.

Filed Date: 12/20/2010.

Accession Number: 20101220-5001.

Comment Date: 5 p.m. Eastern Time on Monday, January 10, 2011.

Docket Numbers: ER11-2405-000.

Applicants: Southern California Edison Company.

Description: Southern California Edison Company submits tariff filing per 35.13(a)(2)(iii: TO5 Settlement Offer, to be effective 6/1/2010.

Filed Date: 12/20/2010.

Accession Number: 20101220-5002.

Comment Date: 5 p.m. Eastern Time on Monday, January 10, 2011.

Docket Numbers: ER11-2406-000.

Applicants: Westar Energy, Inc.

Description: Westar Energy, Inc. submits tariff filing per 35.13(a)(2)(iii: Kansas Power Pool Confirmation Letter Re-dispatch Services, to be effective 11/1/2010.

Filed Date: 12/20/2010.

Accession Number: 20101220-5006.

Comment Date: 5 p.m. Eastern Time on Monday, January 10, 2011.

Docket Numbers: ER11-2407-000.

Applicants: First Commodities Ltd.

Description: First Commodities Ltd submits a notice of cancellation.

Filed Date: 12/17/2010.

Accession Number: 20101220-0201.

Comment Date: 5 p.m. Eastern Time on Friday, January 07, 2011.

Docket Numbers: ER11-2408-000.

Applicants: Atlantic Path 15, LLC.

Description: Atlantic Path 15, LLC submits tariff filing per 35.13(a)(2)(iii: Atlantic Path 15 TRR Revisions, to be effective 2/19/2011.

Filed Date: 12/20/2010.

Accession Number: 20101220-5043.

Comment Date: 5 p.m. Eastern Time on Monday, January 10, 2011.

Docket Numbers: ER11-2409-000.

Applicants: Tampa Electric Company.

Description: Tampa Electric Company submits tariff filing per 35.13(a)(2)(iii: Rate Schedule No. 92 with Reedy Creek Improvement District to be effective 1/1/2011.

Filed Date: 12/20/2010.

Accession Number: 20101220-5049.

Comment Date: 5 p.m. Eastern Time on Monday, January 10, 2011.

Docket Numbers: ER11-2410-000.

Applicants: Hinson Power Company, LLC.

Description: Hinson Power Company, LLC submits tariff filing per 35: Hinson Power Company requests Category 1 status effective 12/21/2010 to be effective 12/21/2010.

Filed Date: 12/20/2010.

Accession Number: 20101220-5064.

Comment Date: 5 p.m. Eastern Time on Monday, January 10, 2011.

Docket Numbers: ER11-2411-000.

Applicants: Southern California Edison Company.

Description: Southern California Edison Company submits tariff filing per 35.13(a)(2)(iii: LGIA AV Solar Ranch One Project SA No. 96 to be effective 12/21/2010.

Filed Date: 12/20/2010.

Accession Number: 20101220-5128.

Comment Date: 5 p.m. Eastern Time on Monday, January 10, 2011.

Docket Numbers: ER11-2412-000.

Applicants: Bangor Hydro Electric Company.

Description: Bangor Hydro Electric Company submits tariff filing per 35.13(a)(2)(iii: Interconnection Agreement with PPL Maine to be effective 12/11/2010.

Filed Date: 12/20/2010.

Accession Number: 20101220-5131.

Comment Date: 5 p.m. Eastern Time on Monday, January 10, 2011.

Docket Numbers: ER11-2413-000.

Applicants: Delmarva Power & Light Company.

Description: Delmarva Power & Light Company, Notice of Cancellation of Mutual Operating Agreement, Service Agreement No. 969.

Filed Date: 12/20/2010.

Accession Number: 20101220-5133.

Comment Date: 5 p.m. Eastern Time on Monday, January 10, 2011.

Docket Numbers: ER11-2415-000.

Applicants: Southwest Power Pool, Inc.

Description: Southwest Power Pool, Inc. submits tariff filing per 35: Compliance Filing in Accordance with November 18, 2010 Order in ER09-1254-002 to be effective 7/26/2010.

Filed Date: 12/20/2010.

Accession Number: 20101220-5154.

Comment Date: 5 p.m. Eastern Time on Monday, January 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-32646 Filed 12-27-10; 8:45 am]

BILLING CODE 6717-01-P